Title 3—

The President

Proclamation 8634 of March 4, 2011

National Consumer Protection Week, 2011

By the President of the United States of America

A Proclamation

Each day, families across America navigate complex financial decisions, from buying a home or car to paying off a loan or using a credit card. Consumer education is vital to protecting American families and preserving economic health in the United States. When fully informed about the potential risks in the marketplace and their rights as consumers, Americans are better able to recognize misinformation, scams, and abusive and deceptive practices that can endanger individual economic security and erode the prosperity of our communities.

For more than a decade, National Consumer Protection Week has encouraged Americans to make better-informed decisions about saving, buying, borrowing, and investing. This year’s theme, “Your Information Destination: www.NCPW.gov,” highlights the resources offered by Federal agencies and partner organizations that encourage the public to manage their money, stay safe online, and understand mortgages and other financial transactions. By seeking out this information, families can both strengthen the economy and protect themselves from fraudulent behavior. For information and resources, I encourage American consumers to visit www.NCPW.gov.

The Federal Government has an important role to play in safeguarding transactions, and my Administration is committed to holding abusive companies accountable and shifting the balance of power back to the American consumer. I was proud to sign into law the strongest consumer protections in our Nation’s history with the Credit Card Accountability, Responsibility, and Disclosure Act (Credit CARD Act) and the Dodd-Frank Wall Street Reform and Consumer Protection Act. One of the centerpieces of this financial reform legislation was the creation of the Consumer Financial Protection Bureau, which is charged with enforcing historic financial protections and empowering Americans with clear and concise information to make the best choices for their families. These common-sense reforms will protect both consumers and our economy as a whole.

As a Nation, we must foster an environment that supports informed decisionmaking, supports fair and robust competition in the marketplace, and guards all citizens from unfair and predatory practices. During National Consumer Protection Week, I encourage all Americans to learn about their rights as consumers and seek out the knowledge to manage their finances more effectively by visiting www.MyMoney.gov and www.ConsumerFinance.gov.

NOW, THEREFORE, I, BARACK OBAMA, President of the United States of America, by virtue of the authority vested in me by the Constitution and the laws of the United States, do hereby proclaim March 6 through March 12, 2011, as National Consumer Protection Week. I call upon government officials, industry leaders, and advocates across the Nation to share information about consumer protection and provide our citizens with information about their rights as consumers.

IN WITNESS WHEREOF, I have hereunto set my hand this fourth day of March, in the year of our Lord two thousand eleven, and of the Independence of the United States of America the two hundred and thirty-fifth.

[FR Doc. 2011-5541

Filed 3-8-11; 8:45 am]

Billing code 3195-W1-P